DEPARTMENT OF COMMERCE

National Oceanic and Atmospheric Administration

[I.D. 120605C]

Vessel Monitoring Systems (VMS); Specification of Requirements for Mobile Communications Service Provider (MCSP) Type Approval

AGENCY: National Marine Fisheries Service (NMFS), National Oceanic and Atmospheric Administration (NOAA), Commerce.

ACTION: Notice; revision of type approval requirements.

SUMMARY: This document provides notice of type approval requirements for a Mobile Communications Service Provider (MCSP) to be authorized for use by any vessel participating in the NOAA Vessel Monitoring Systems (VMS) program. Vessels participating in VMS programs must acquire an Office for Law Enforcement - approved mobile transceiver unit (MTU) and use an authorized MCSP to comply with the standards set forth in NMFS rules requiring the use of VMS.

ADDRESSES: To obtain copies of the list of NOAA-approved VMS MTU and VMS MCSPs, or to obtain information regarding the status of VMS systems being evaluated by NOAA, write to NOAA Fisheries, Office for Law Enforcement (OLE), 8484 Georgia Avenue, Suite 415, Silver Spring, MD 20910.

FOR FURTHER INFORMATION CONTACT: For current listing information contact Mark Oswell, Outreach Specialist, or for questions regarding VMS installation and status of evaluations contact Jonathan Pinkerton, National VMS Program Manager by phone: 301-427-2300 or by fax: 301-427-2055.

SUPPLEMENTARY INFORMATION: This notice supersedes all previous notices on MCSP type approval requirements. Previously approved MCSPs must comply with the requirements of this notice within 120 days of the publication date of this notice.

Background

The OLE maintains MCSP requirement specifications as an OLE national directive. This document sets prerequisite standards for the purpose of carrier qualification, which an MCSP must meet before it is permitted to be used in an OLE VMS. Vessels participating in VMS programs must use an OLE-qualified MSCP to comply with NMFS rules requiring the use of VMS. An MCSP is an operator of a mobile communications service used to provide wireless connectivity between mobile platforms (such as vessels, trucks, and people) and fixed platforms (such as offices and buildings). In VMS, the MCSP enables location transmission and two-way message exchange between OLE and the vessel when using an onboard MCSP-compatible MTU. (Note: Standards for the MTU are written in the complementary directive titled Mobile Transceiver Unit Specification of Requirements.)

Goal

OLE seeks to deploy an “open system,” whereby fishing industry participants may select from a variety of suppliers that qualify and have been approved to participate in VMS programs. Fishermen must comply with their Federal fishery regulations regarding VMS and therefore may be cited for a violation and held accountable for monitoring anomalies not attributable to faults in the MCSP or MTU. Therefore, type approval is essential to establish and maintain uniformly high system integrity. By this notice, OLE seeks to approve reliable, robust, and secure MCSP services and thereby create and maintain a VMS meeting the requirement of high integrity. Specific VMS programs are created to support particular NMFS rules requiring the use of VMS, which typically are designed to manage or protect fish and other marine species within designated areas.

Process

Based on a request for carrier qualification from a candidate MCSP, OLE will conduct a thorough evaluation and then issue a statement to accept or deny the carrier qualification of an MCSP. The MCSP must meet the minimal national VMS standards, as required by this notice, and the requirements of the specific fisheries for which approval is sought. MCSP providers are encouraged to review the national VMS standards and Federal regulations for the fishery of interest prior to submitting a request for approval. Upon successful demonstration of compliance to the standards set forth in this directive, OLE will issue a MCSP carrier qualification for a particular communications class applicable to one or more VMS operations targeting particular fisheries. A class refers to the medium, protocol, and frequency of the mobile communications technology.

OLE approval will not necessarily result in NMFS procurement of MCSP services. Instead, OLE will request a fact sheet from the MCSP to provide information to the fishing industry that includes at minimum, value-added services, account activation procedures, and pricing plans. This will allow fishermen to make purchase decisions that are compatible with the VMS standards and their individual needs. Purchasing strategies will also be determined on a per fishery implementation basis.

Initiation

OLE will initiate the MCSP carrier qualification process upon written request from the provider, subject to the demonstration of compliance with this notice and the availability of test units. The provider, or requestor for carrier qualification, may be the company, systems integrator, distributor, and/or value-added reseller, etc., acting within the constraints of its agreement with the underlying communications company. Consideration will be given to an MCSP that has already passed a comparable carrier qualification process in a foreign fisheries management effort. If applicable, the provider should provide the MCSP's identifying characteristics, the details of foreign VMS requirement specifications, the MCSP's level of compliance, and appropriate contact details of the qualifying authorities. OLE also will consider qualifying an MCSP which resells, packages, or integrates communication services from an MCSP that already received OLE carrier qualification under this notice.

Interoperability

An MCSP seeking carrier qualification within a particular communications class for VMS must demonstrate that it meets the standards when using at least one type approved MTU within that same class. Establishment of the standards in thisDirective are intended to ensure that carrier qualification for a particular MCSP will permit its interoperability with all approved MTU within its same class. To best promote interoperability within a class, MTU and MCSP acceptance standards are outlined in separate directives. However, concurrent with this approval process for an MCSP, the approval for a same-class MTU must be either in place or pending. Data received at OLE from the MCSP must be in a secure and encrypted format compatible with OLE tracking software.

Submission

A provider requesting MCSP type approval shall begin by describing in detail the extent to which the MCSP complies with each of the requirements set forth within this directive. The provider, or requestor for type approval, must provide OLE with one in-class MTU and the required communications service for each of the fisheries for which approval is desired for a 90- day test and approval period. The supplier must also provide thorough MTU documentation, including fact sheets, installation guides, operator manuals, user handbooks, the applicable interfacing software, and technical support. OLE shall review the submissions against the criteria of this directive. Next, OLE shall perform field test and sea trials. To accomplish this, OLE will coordinate test conditions with volunteer and/or contract fishing vessels. These tests may involve demonstrating every aspect of MCSP operation, including programming a registered MTU, location tracking, messaging, and troubleshooting procedures.

Submit requests for type approval, along with hard and soft copies of support material to: U.S. Department of Commerce; National Oceanic and Atmospheric Administration; National Marine Fisheries Service; Office for Law Enforcement; Attention: Vessel Monitoring System Program; 8484 Georgia Ave. Suite 415; Silver Spring, MD 20910 USA; voice 301-427-2300, fax 301-427-2055.

Litigation Support

Due to the use of VMS for law enforcement, all technical aspects of a provider's submission are subject to being admitted as evidence in a court of law, if needed. The reliability of all technologies utilized in the MCSP may be analyzed in court for, inter alia, testing procedures, error rates, peer review, and general industry acceptance. Further, the provider may be required to provide technical and expert support for litigation to support the MCSP capabilities and establish OLE's case against violators. If the technologies have previously been subject to such scrutiny in a court of law, the provider should describe the evidence and any court finding on the reliability of the technology. Additionally, to maintain the integrity of VMS for fisheries management, the provider will be required to sign a non-disclosure agreement limiting the release of certain information that might compromise either the confidentiality of fishermen's personally identifying information, proprietary fishing data, such as vessel positions, or the effectiveness of the VMS operations, such as details of security procedures. The provider shall include a statement confirming its agreement with these conditions.

Change Control

Once qualified, it is the responsibility of the MCSP to notify OLE of any change in its submission, such as a change affecting interconnect facilities, geographic coverage, performance characteristics, or customer support contacts. OLE reserves the right to reconsider and revoke the MCSP approval if, as a result of the change, the MCSP no longer satisfies the requirement.

Requests for Approval

Requestors must respond to each of the items listed in sections 1 through 10 of this document and any applicable attachments. The response should indicate how the MCSP complies with the requirement referred to in the item. Items that the MCSP does not currently comply with must be responded to by explaining how the MCSP will comply with the requirement prior to approval.

Section 1. Identifiers

The MCSP must provide the following specifications and identifying characteristics:

1.1.1. Communications class, including medium, protocol, and frequency of the mobile communications technology.

1.1.2. Trade name of the service.

1.1.3. Company name.

1.1.4. Corporate headquarters.

1.1.5. Principal business.

1.1.6. Parent and subsidiary companies, if applicable.

1.1.7. Name and locations of principal terrestrial facilities, e.g., downlinks, gateways, switches, and operation centers.

1.2 MCSP must support at least one MTU approved for use in the fishery desired unless the request is made bundled with a new MTU. If the request is made bundled with an MTU, approval of the MCSP will be contingent upon the approval of the MTU. MCSP ireless facilities must also have the following characteristics as applicable:

1.2.1. Satellite: MCSP must provide adequate orbit types, constellation size, and coverage footprint to provide comprehensive coverage of the VMS fishery for which application is made

1.2.2. Cellular: MCSP must provide adequate coverage footprints, tower distribution density, tower locations, and protocols required to provide comprehensive coverage of the VMS fishery for which application is made.

1.2.3. Radio: MCSP must provide adequate coast stations, locations, antennas, and antenna size to provide comprehensive coverage of the VMS fishery for which application is made.

1.2.4. Approved or pending approval MTU(s) supported.

1.3 For the following technical responsibilities, name the business entities, including the MCSP and other parties, who perform the following functions. Include the business mailing address, contact name(s), telephone number, fax number, email addresses.

1.3.1. Operate principal terrestrial facilities.

1.3.2. Operate principal wireless facilities.

1.4 For the following commercial responsibilities, name the business entities, including the MCSP and other parties, who perform the following functions for US customers. Include the business mailing address, contact name(s), telephone number, fax number, email addresses. Designate the US geographic territory or market sector where applicable.

1.4.1. Direct sales.

1.4.2. Indirect/distributor/channel sales.

1.4.3. Billing.

1.4.4. Account management.

1.4.5. Customer service.

1.4.6. Technical support.

1.4.7. Public affairs.

1.4.8. Advertising.

Section 2. Messaging

The MCSP shall be capable of communications that support the following messaging functions:

2.1. Ability to transmit multiple message types:

2.1.1. Automatically generated position reports.

2.1.2. Event-driven position reports.

2.1.3. Safety and distress alerts and messages.

2.1.4. Email text messages.

2.1.5. Ability to remotely create new message-types.

2.1.6. Email forms.

2.2. Ability to provide comprehensive and transparent communications, which function uniformly within the entire area of the geographic coverage area for the particular communications class.

2.3. Ability to perform two-way messaging.

2.4. Ability for OLE to initiate communications to vessels, either individually or by originator-defined groups of vessels.

Section 3. Position Data Formats and Transmission

3.1. An MCSP should support an MTU's ability to transmit automatically-generated position reports that contain the following:

3.1.1. Position fix latitude and longitude, including the hemisphere of each.

3.1.2. The precision of the position fix shall be to the decimal minute hundredths.

3.1.3. Accuracy of the position fix must be within 100 meters, unless otherwise indicated by an existing regulation or FMP requirement.

3.1.4. Unique identification of an MTU within the communications class.

3.1.5. Date (year/month/day with century in the year) and time (GMT) stamp of the position fix.

3.1.6. Date (year/month/day with century in the year) and time (GMT) when the position report is received at the MCSP.

3.1.7. Date (year/month/day with century in the year) and time (GMT) stamp when the position report is sent to OLE.

3.1.8. MTU status information, such as configuration of programming and reporting intervals, power save modes, antenna disconnection, and power-up/power down, and loss of positioning signal.

Section 4. Special Identified Position Reports

4.1. In addition to automatically generated position reports, support the MTU's ability to transmit specially identified position reports. If the MTU is unable to transmit status upon the occurrence of these events below, then the specially identified position reports are transmitted when its ability to transmit is reestablished.

4.1.1. Loss of the positioning reference signals.

4.1.2. Loss of the mobile communications signals.

4.1.3. Security events and other status data.

4.1.4. The vessel crossing a predefined geographic boundary.

4.1.5. Automatically generated position reports sent to OLE from the MCSP must be in a format compatible with OLE monitoring software.

Section 5. Queries

5.1. The MCSP shall allow the initiation of queries to extract information from single and multiple vessels to satisfy the following criteria:

5.1.1. A query addressed to an individual vessel or a group of vessels. The group of vessels may be comprised of:

5.1.1.1. Vessels presently located within a geographic area (for example, defined by a circle or a rectangle, used by Coast Guard for search and rescue coordination);

5.1.1.2. Vessels that are members of an OLE-defined logical grouping (For example, grouped by fish type, gear type, or region of home port);

5.1.1.3. Queries are for the following:

5.1.1.3.1. Reprogramming or reconfiguring position reporting features.

5.1.1.3.2. Determining current position.

5.1.1.3.3. Extracting feature states, such as sensor status.

Section 6. Position Intervals

6.1. The MCSP must support the ability to determine the position of an MTU at fixed, programmable reporting intervals between 5 minutes and 24 hours.

Section 7. Latency

7.1. The MCSP must meet latency requirements from 5 minutes or less (near real time) to 3 hours (store and forward) between the time a position is fixed and the time it is received in OLE.

Section 8. Terrestrial Connectivity

8.1. The OLE VMS program supports multiple VMS rules with incoming data from many vessels that may be using different MTUs within a communications class, or multiple classes. VMS receives data in a class-native format from the MCSP at the appropriate VMS monitoring center in an OLE-standard format. For approval a MCSP must be capable of delivering information from all its within-class subscribers to OLE in a format and protocol compatible with OLE equipment and software facilities. The MCSP must provide:

8.1.1. Redundancy of terrestrial facilities and network connectivity between MCSP and OLE, such that backup circuits or alternate network types automatically replace the primary in the event of failure without any manual intervention.

8.1.2. Two-way communications for delivery and acceptance of data from MCSP to OLE and back, supporting messages, position reports, queries and administrative functions.

8.1.3. Auto-forwarding or auto-delivery of messages without the need for retrieval by OLE.

8.1.4. Geographically transparent communications from OLE to the MTU, such that OLE seamlessly performs communication functions without a need to take additional steps to accommodate the geographic region where the vessel is fishing.

8.1.5. Latency at 5 minutes or less (near real time) for 95 percent of transmissions for two-way messaging between the MCSP and OLE.

8.1.6. Communications between the MCSP and OLE must be provided along secure encrypted channels. The MCSP must provide reasonable mechanisms to prevent:

8.1.6.1. Tampering or interception, including the reading of passwords and data.

8.1.6.2. Interception and “sniffing” during transmission from the MCSP to OLE via either wireless or terrestrial facilities.

8.1.6.3. Spoofing, whereby one MTU is fraudulently identifying itself as another MTU.

8.1.6.4. Modification of MTU identification.

8.1.6.5. Interference with Global Maritime Distress and Safety System (GMDSS) or other safety/distress functionalities.

8.1.6.6. Introduction of viruses that may corrupt the messages, transmission, or the VMS system.

Section 9. Wireless Connectivity

9.1. The MCSP shall have the following wireless connectivity features:

9.1.1. Redundancy of wireless facilities and network connectivity between MTU and OLE, such that backup circuits or alternate network types automatically replace the primary in the event of failure without any manual intervention.

9.1.2. Geographically transparent communications to and from OLE and the MTU, such that OLE seamlessly performs communication functions without a need to take additional steps to accommodate the geographic region where the vessel is fishing.

9.1.3. Durability and reliability in a marine environment, without signal degradation or other loss of integrity from adverse meteorological conditions.

9.2. Communications between MCSP and MTU must be secure from tampering or interception, including the reading of passwords and data. The MCSP must provide reasonable mechanisms to prevent:

9.2.1. Interception and “sniffing” during transmission to and from the MCSP and MTU via either wireless or terrestrial facilities.

9.2.2. Spoofing, whereby one MTU is fraudulently identifying itself as another MTU.

9.2.3. Modification of MTU identification.

9.2.4. Interference with GMDSS or other safety/distress functionalities.

9.2.5. Introduction of viruses that may corrupt the messages, transmission, or the VMS system.

Section 10. Customer Service

10.1 The MCSP and its designated entities shall provide customer service that is professional, courteous, and responsive.

10.2 The MCSP must have security measures, user authentication, request validation and non-disclosure policies to prevent unauthorized access to the content of reports or other manual interference. The following requirements must be included:

10.2.1. Prevent unauthorized access to data and configuration information by MCSP employees and third parties.

10.2.2. Authorize fishermen access to account info and to enhance the MTU configuration for personal messages, if they pay for the costs of personal messages and configuration changes do not affect the integrity of VMS operations.

10.2.3. Send the MTU email, poll or remotely reconfigure the MTU for position reporting changes upon OLE request.

10.2.4. Keep an audit trail of actions taken by Customer Service.

10.3. MCSP security procedures must support above services whether the access or configuration change is applied to a single MTU or a group of MTUs.

10.4. Service level agreements must clarify constraints, if any, on the geographic territory, personnel availability, and escalation procedures for problem resolution covered by such services.

10.5. Assist in the resolution of communications anomalies, such as data loss, message corruption, and reporting gaps including helping to determine the cause of the problem.

10.6. Provide and documented MTU commissioning procedures for US vessels.

10.7. Provide and documented account and service activation procedures.

10.8. Provide documented and secure MTU configuration strategy or procedures for vessels monitored singly or grouped by fleet.

10.9. All personally identifying information provided by vessels owners or other authorized personnel for the purpose of purchase or activation of MCSP services, or for the participation in any NMFS VMS-approved fishery must be protected from unauthorized disclosure. Personally identifying information includes, but is not limited to, names, addresses, telephone numbers, social security account numbers, credit card numbers, vessel names, federal, state, and local documentation numbers, e-mail addresses, and crew lists. Any information sent electronically to the OLE must be transmitted by a secure means that prevents interception, spoofing, or viewing by unauthorized individuals. Any release of such information must be requested and approved in writing by the vessel owner or authorized personnel, or the OLE. Inadvertent or intentional unauthorized release of personally identifying information will be grounds for reconsideration and possible revocation of the type approval for any offending MCSP.

Dated: January 13, 2006.
William T. Hogarth,
Assistant Administrator for Fisheries, National Marine Fisheries Service.

[FR Doc. E6-588 Filed 1-18-06; 8:45 am]

BILLING CODE 3510-22-S